DEPARTMENT OF LABOR

Employment and Training Administration

[TA-W-50,128]

GE Greenville Gas Turbines, LLC Including Leased Workers of GE Automation Services, Inc., Greenville, South Carolina; Amended Certification Regarding Eligibility To Apply for Worker Adjustment Assistance

In accordance with Section 223 of the Trade Act of 1974 (19 U.S.C. 2273) the Department of Labor issued a Certification of Eligibility to Apply for Worker Adjustment Assistance on February 7, 2003, applicable to workers of GE Greenville Gas Turbines, LLC, Greenville, South Carolina. The notice was published in the Federal Register on March 26, 2003 (68 FR 14708).

At the request of the petitioners, the Department reviewed the certification for workers of the subject firm. New information shows that leased workers of GE Automation Services, Inc. were employed at GE Greenville Gas Turbines, LLC to provide designing and drafting services supporting the production of gas turbines and related components at the Greenville, South Carolina location of the subject firm.

Based on these findings, the Department is amending this certification to include leased workers of GE Automation Services, Inc. working at GE Greenville Gas Turbines, LLC, Greenville, South Carolina.

The intent of the Department's certification is to include all workers employed at GE Greenville Gas Turbines, LLC who were adversely affected by increased imports.

The amended notice applicable to TA-W-50,128 is hereby issued as follows:

“All workers of GE Greenville Gas Turbines, LLC, Greenville, South Carolina, and leased workers of GE Automation Services, Inc., engaged in employment related to the production of gas turbines and related components at GE Greenville Gas Turbines, LLC, Greenville, South Carolina, who became totally or partially separated from employment on or after November 15, 2001, through February 7, 2005, are eligible to apply for adjustment assistance under Section 223 of the Trade Act of 1974.”

Signed at Washington, DC this 30th day of December 2003.
Richard Church,
Certifying Officer, Division of Trade Adjustment Assistance.

[FR Doc. 04-1002 Filed 1-15-04; 8:45 am]

BILLING CODE 4510-30-P